DEPARTMENT OF DEFENSE

Department of the Army; Corps of Engineers

Intent To Prepare a Draft Environmental Impact Statement for Proposed Disposal and Reuse of Tracts 32, 33, 34, 35, 36, 37, 47, 61, 62, and the Southern Portion of Tract 24 at the Former Cornhusker Army Ammunition Plant Located in Hall County, NE

AGENCY: Department of the Army, U.S. Army Corps of Engineers, DoD.

ACTION: Notice of intent.

SUMMARY: This Draft Environmental Impact Statement (DEIS) will address potential impacts from the proposed disposal and reuse of Cornhusker Army Ammunition Plant (CHAAP) properties. Two-thirds of the former ammunition plant has already been disposed of in recent years. The CHAAP is no longer needed by the United States Army for the nation's defense, and thus can be returned to the private sector and/or non-Federal government ownership, and to Hall County tax rolls, in keeping with the intent of Public Law 103-337 and the recommendations of the CHAAP Reuse Committee as expressed the 1997 CHAAP Comprehensive Reuse Plan.

FOR FURTHER INFORMATION CONTACT: For additional information on the National Environmental Policy Act (NEPA) process, or to be added to the mailing list, contact Mr. Randal Sellers, CENWO-PM-AE, U.S. Army Corps of Engineers, 106 South 15th Street, Omaha, NE 68102, telephone (402) 221-3054, or e-mail: randy.p.sellers@usace.army.mil. For additional information on CHAAP activities, contact the Project Manager, Mr. Joseph Laird, CENWO-PM-M, U.S. Army Corps of Engineers, 106 South 15th Street, Omaha, NE 68102, telephone (402) 221-3846, or e-mail: joseph.f.laird@usace.army.mil.

SUPPLEMENTARY INFORMATION: This DEIS will examine disposal and reuse of ten tracts located in areas zoned by the CHAAP Reuse Committee for industrial use (industry/agriculture in the Comprehensive Reuse Plan). These tracts were the site of the CHAAP's production lines when the ammunition plant was active. At the present time, a potential reuse proposed for these tracts is sale to the Nebraska Public Power District for the possible construction and operation of a coal-burning power plant, which may eventually contain two units at 400 megawatts (MW) generating capacity each, for a total of 800 MW of generating capacity.

The DEIS will analyze potential direct and indirect impacts of disposal and the industrial reuse of the ten tracts, utilizing the construction and operation of a coal-burning power plant as an example of a potential industrial reuse. Topics to be addressed include potential impacts on air, water, soils, wildlife, vegetation, noise, recreation, cultural/historic resources, land use, transportation, aesthetics, as well as socioeconomic impacts—both beneficial and adverse—on the surrounding community. The DEIS will also briefly describe impacts from potential reconnected actions, like mining and transport of the coal to be used in the power plant, and cumulative impacts, long-term effects to the community, region, and nation from a number of actions, events, and trends, to which the proposed action may contribute incrementally.

In addition, the DEIS will examine the No Action Alternative, under which no sale and reuse would occur and the subject tracts would remain in the possession of the Army. Under this alternative, gradual demolition of structures and cleanup of contaminated groundwater would continue.

The Corps invites the participation of interested and affected Federal, state, and local agencies, Indian Tribes, and other private organizations and parties in helping determine the scope of the DEIS. A public information and scoping meeting will be held on March 11, 2004 at the Mid-Town Holiday Inn, located at 2503 South Locust Street, Grand Island, Nebraska 68801. That meeting will begin at 6:30 p.m. and end at 8:30 p.m. This meeting will be announced in the local Grand Island media. In addition, the Corps will hold an informational meeting for interested agencies prior to the public scoping meeting. Representatives of the Corps will be available to discuss the proposed action, issues, environmental concerns, and the EIS process at both meetings. This Notice will also serve as an additional scoping method. Persons who may be interested in or affected by the proposed action/DEIS are invited to participate in the scoping process by responding to this Notice with written comments. The scoping process will help define problems and determine which issues are to be addressed in the DEIS. Written comments should be postmarked no later than April 7, 2004.

It is expected that the DEIS will be made available to the public by June 2004.

Dated: February 19, 2004.
Candace M. Gorton,
Chief, Environmental, Economics and Cultural Resource Section, Planning Branch.

[FR Doc. 04-4880 Filed 3-3-04; 8:45 am]

BILLING CODE 3710-62-M